ENVIRONMENTAL PROTECTION AGENCY

40 CFR Part 52

[EPA-R01-OAR-2016-0626; FRL-9966-37-Region 1]

Air Plan Approval; Vermont; Regional Haze Five-Year Progress Report

AGENCY: Environmental Protection Agency.

ACTION: Direct final rule.

SUMMARY: The Environmental Protection Agency (EPA) is approving Vermont's regional haze progress report, submitted on February 29, 2016 as a revision to its State Implementation Plan (SIP). Vermont's SIP revision addresses requirements of the Clean Air Act (CAA) and EPA's rules that require states to submit periodic reports describing the progress toward reasonable progress goals (RPGs) established for regional haze and a determination of adequacy of the State's existing regional haze SIP. EPA is approving Vermont's progress report on the basis that it addresses the progress report and adequacy determination requirements for the first implementation period covering through 2018.

DATES: This direct final rule will be effective October 16, 2017, unless EPA receives adverse comments by September 15, 2017. If adverse comments are received, EPA will publish a timely withdrawal of the direct final rule in the Federal Register informing the public that the rule will not take effect.

ADDRESSES: Submit your comments, identified by Docket ID No. EPA-R01-OAR-2016-0626 at http://www.regulations.gov, or via email to arnold.anne@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit http://www.epa.gov/dockets/commenting-epa-dockets.

FOR FURTHER INFORMATION CONTACT: Anne K. McWilliams, Air Quality Planning Unit, U.S. Environmental Protection Agency, New England Regional Office, 5 Post Office Square—Suite 100, (Mail code OEP05-2), Boston, MA 02109-3912, telephone (617) 918-1697, facsimile (617) 918-0697, email mcwilliams.anne@epa.gov.

SUPPLEMENTARY INFORMATION:

Throughout this document whenever “we,” “us,” or “our” is used, we mean EPA.

Table of Contents

I. Background

II. EPA's Evaluation of Vermont's SIP Revision

A. Regional Haze Progress Report

B. Determination of Adequacy of Existing Regional Haze Plan

III. Final Action

IV. Statutory and Executive Order Reviews

I. Background

States are required to submit a progress report in the form of a SIP revision that evaluates progress towards the RPGs for each mandatory Class I Federal area (Class I area) ¹ within the state and each Class I area outside of the state which may be affected by emissions from within the state. See 40 CFR 51.308(g). States are also required to submit, at the same time as the progress report, a determination of the adequacy of the State's existing SIP. See 40 CFR 51.308(h). The first progress report is due five years after submittal of the initial regional haze SIP. On August 26, 2009, the Vermont Department of Environmental Conservation (VT DEC) submitted the State's first regional haze SIP in accordance with the requirements of 40 CFR 51.308.²

¹ Areas designated as mandatory Class I Federal areas consist of national parks exceeding 6000 acres, wilderness areas and national memorial parks exceeding 5000 acres, and all international parks that were in existence on August 7, 1977 (42 U.S.C. 7472(a)). Listed at 40 CFR part 81, subpart D.

² On May 22, 2012, EPA approved Vermont's August 26, 2009 regional haze SIP to address the first implementation period for regional haze. See 77 FR 30212.

On February 29, 2016, VT DEC submitted a revision to the Vermont SIP detailing the progress made in the first planning period toward implementation of the Long Term Strategy (LTS) outlined in the Vermont's 2009 regional haze SIP submittal, the visibility improvement measured at the State's one Class I area, and a determination of the adequacy of the State's existing regional haze SIP. EPA is approving Vermont's February 29, 2016 SIP revision on the basis that it satisfies the requirements of 40 CFR 51.308(g) and (h).

II. EPA's Evaluation of Vermont's SIP Revision

On February 29, 2016, Vermont submitted its “Regional Haze Five-Year Progress Report” (Progress Report) to EPA as a SIP revision.

Vermont is home to one Class I area, the Lye Brook Wilderness Area (Lye Brook). During the regional haze planning process, an area-of-influence modeling analysis based on back trajectories was used to assess Vermont's contribution to visibility impairment at Lye Brook and other Class I areas in other states.³ Based on this analysis, it was determined that Vermont does not influence visibility impairment at any Class I area, including Lye Brook. In the 2009 Vermont regional haze SIP, however, the State agreed to pursue the coordinated course of action agreed to by the Mid-Atlantic/Northeast Visibility Union (MANE-VU) ⁴ to assure reasonable progress toward preventing any future, and remedying any existing, impairment of visibility in the Class I areas within the MANE-VU region. These strategies are commonly referred to as the MANE-VU “Ask.” The MANE-VU “Ask” includes: a timely implementation of best available retrofit technology (BART) requirements; a 90 percent or more reduction in sulfur dioxide (SO2) emissions at 167 electrical generating units (EGUs) “stacks” identified by MANE-VU (or comparable alternative measures); a lower sulfur fuel oil strategy (with limits specified for each State); and continued evaluation of other control measures.⁵ Vermont is not home to any BART sources or targeted EGUs. However, Vermont has adopted a lower sulfur fuel oil strategy which is discussed in greater detail below.

³ Contributions to Regional Haze in the Northeast and Mid-Atlantic United States, August 2006 http://www.nescaum.org/documents/contributions-to-regional-haze-in-the-northeast-and-mid-atlantic-united-states/mane-vu_haze_contribution_asessment-2006-0831.pdf/.

⁴ MANE-VU is a collaborative effort of State governments, Tribal governments, and various federal agencies established to initiate and coordinate activities associated with the management of regional haze, visibility and other air quality issues in the Northeastern United States. Member State and Tribal governments include: Connecticut, Delaware, the District of Columbia, Maine, Maryland, Massachusetts, New Hampshire, New Jersey, New York, Pennsylvania, Penobscot Indian Nation, Rhode Island, and Vermont.

⁵ The MANE-VU “Ask” was structured around the finding that SO2 emissions were the dominate visibility impairing pollutant at the Northeastern Class I areas and electrical generating units comprised the largest SO2 emission sector. See “Regional Haze and Visibility in the Northeast and Mid-Atlantic States,” January 31, 2001.

A. Regional Haze Progress Report

This section includes EPA's analysis of Vermont's Progress Report SIP submittal, and an explanation of the basis of our approval.

In its Progress Report, Vermont describes its implementation of the MANE-VU “Ask” for the sulfur content of fuel oil. Vermont adopted the low-sulfur fuel oil strategy on September 28, 2011 in Vermont's Air Pollution Control Regulations (VT APCR) Section 5-221(1) to take effect in two phases. The first phase began on July 1, 2014, lowering the allowable concentration of sulfur in No. 2 and lighter distillate fuels to 0.05% (500 parts per million (ppm)) by weight. The second phase, to take effect on July 1, 2018, further lowers the sulfur limit for No. 2 and lighter distillate oils to 0.0015% (15 ppm) by weight, the sulfur limit for No. 4 residual oil to 0.25% (2,500 ppm) by weight, and the sulfur limit for No. 5 and No. 6 residual oils, heavier residual oils, and used oils to 0.5% (5,000 ppm) by weight. EPA has approved Vermont's Section 5-221(1) into the Vermont SIP. See 77 FR 30213 (May 22, 2012).

Vermont's Progress Report also includes the status of SO2 emission reductions from states that affect Class I areas in MANE-VU relative to the MANE-VU “Ask.” ⁶ Vermont consulted with states in the eastern United States that affect visibility at the Lye Brook Class I area, outlining how the states could meet the MANE-VU “Ask” and help achieve reasonable progress for the Class I area in Vermont and other MANE-VU States. These emission reductions were included in the modeling that predicted progress toward meeting the RPGs for Lye Brook. EPA finds that Vermont's summary of the status of the implementation of measures in its Progress Report adequately addresses the applicable provisions under 40 CFR 51.308(g).

⁶ Memorandum from NESCAUM to MANE-VU “Overview of State and Federal Actions Relative to MANE-VU Asks” dated March 28, 2013 http://www.nescaum.org/documents/summary-memo-mane-vu-asks-20130328-final.pdf/.

During the development of the regional haze SIP for the first planning period, MANE-VU and Vermont determined that SO2 was the greatest contributor to anthropogenic visibility impairment at the State's Class I area. Therefore, the bulk of visibility improvement achieved in the first planning period was expected to result from reductions in SO2 emissions from sources inside and outside of the State. In its Progress Report SIP Table 7.3, Vermont presents data from statewide emissions inventories developed for the years 2002, 2008, 2011, and projected inventories for 2018 for SO2, Oxides of Nitrogen (NOX), Fine Particulate Matter (PM2.5) and Volatile Organic Compounds (VOC).7 8 Vermont's emissions inventories include the following source sectors: point, area/nonpoint, on-road, and non-road. The Progress Report highlights that the total SO2 emissions from all sectors decreased from 7,293 tons per year (tpy) in 2002 to 3,450 tpy in 2011, i.e., approximately a 53% reduction. The annual SO2 emissions projection for 2018 is 3,493 tpy. VT DEC demonstrated that by 2011, Vermont had already achieved the SO2 emission reductions expected during the first regional haze planning period.

⁷ The 2002, 2008, and 2011 inventories are all based on the respective EPA's National Emission Inventory (NEI). https://www.epa.gov/air-emissions-inventories/national-emissions-inventory-nei.

⁸ The 2018 projected inventory is taken directly from Table 6.4 in Vermont's 2009 regional haze SIP revision. See 77 FR 30212.

EPA finds that Vermont has adequately addressed the provision under 40 CFR 51.308(g). Vermont has detailed the SO2 reductions from the 2002 regional haze baseline by using the most recently available year of data at the time of the development of Vermont's Progress Report, which is 2011.

The provisions under 40 CFR 51.308(g) also require that states with Class I areas within their borders provide information on current visibility conditions and the difference between current visibility conditions and baseline visibility conditions expressed in terms of five-year averages of these annual values.

Vermont is home to one Class I area, the Lye Brook Wilderness Area. From 1992 to 2012, VT DEC operated an Interagency Monitoring of Protected Visual Environments (IMPROVE) program monitor on Mt. Equinox (LYBR1), near the Lye Brook Wilderness Area. In 2012, a second IMPROVE site was established on Mt. Snow in Dover, Vermont (LYEB1) due to the planned discontinuation of the Mt. Equinox site. Monitors at both sites collected data concurrently for a period of nine months. On the 20% best and worst days, the two sites were found to have a nearly one-to-one relationship. In the Progress Report, VT DEC provides the data in deciviews (dv) ⁹ for the baseline 2000-2004 five-year average visibility, the most recent 2010-2014 five-year average visibility, the 2018 RPG from Vermont's 2009 regional haze SIP, and the calculated visibility improvement.¹⁰ See Table 1.

⁹ The deciview is a measure for tracking progress in improving visibility. Each deciview change is an incremental change in visibility perceived by the human eye. The preamble to the Regional Haze Rule provides additional details about the deciview (64 FR 35714 (July 1, 1999)).

¹⁰ 2000-2011 data from LYBR1 site and 2012-2014 data from LYEB1 site.

Table 1—Observed Visibility vs. Established Visibility Goals (in deciviews) for Lye Brook Wilderness Area
| Baseline 2000-2004 5-year average visibility (dv) | Most recent 2010-2014 5-year average visibility (dv) | Visibility improvement (dv) | 2018 reasonable progress goal (dv) | Meets 2018 progress goal?
20% Most Impaired Days | 24.4 | 18.5 | 5.9 | 20.9 | Yes.
20% Least Impaired Days | 6.4 | 5.1 | 1.3 | 5.5 | Yes.

The baseline visibility for Lye Brook was 24.4 dv on the 20% most impaired days and 6.4 dv on the least impaired days. The most recent five-year average visibility data (2010-2014) demonstrates that the State has already achieved and surpassed the 2018 RPG for the 20% most impaired days (18.5 dv vs. RPG of 20.9 dv) and ensured no visibility degradation for the 20% least impaired days for the first planning period (5.1 dv vs. RPG of 5.5 dv).

EPA finds that Vermont provided the required information regarding visibility conditions to meet the applicable requirements under 40 CFR 51.308(g), specifically providing baseline visibility conditions (2000-2004), current conditions based on the most recently available IMPROVE monitoring data (2010-2014), and a comparison with the RPGs.

As discussed above, Vermont's Progress Report SIP Table 7.3 presents data from statewide emissions inventories developed for the years 2002, 2008, 2011, and projected inventories for 2018 for SO2, NOX, PM2.5 and VOC. From 2002 through 2011, Vermont's overall area/nonpoint (the largest SO2 sector) emissions were reduced from 5,386 to 2,927 tons of SO2, below the 2018 projection of 2,990 tons SO2. For NOX, from 2002 to 2011, the State achieved an overall 35% reduction from 30,231 tons to 19,644 tons. VT DEC is estimating that the state will achieve an additional 8,000 tpy NOX reduction, mostly from fleet turnover in the on-road mobile sector, which would result in an emissions level on par with the approximately 11,000 tons of NOx projected for 2018 in Vermont's regional haze SIP. VT DEC indicates that based on the 2011 emissions data, the State has already reduced VOC emissions below the level projected for 2018 (42% reduction by 2011 vs. the projected 19% reduction by 2018). Finally, VT DEC notes that PM2.5 emissions have increased from 2002 (11,446 tons) to 2008 (14,355 tons) and then decreased in 2011 (13,406 tons). VT DEC notes that this fluctuation is most likely attributable, in part, to increased residential wood burning, as well as to changes in the emission reporting methodology for estimating fugitive dust emissions. The Vermont projection for PM2.5 emissions in 2018 is 7,932 tons.

EPA finds that Vermont has adequately addressed the applicable provisions under 40 CFR 51.308(g). VT DEC compared the most recently updated emission inventory data available at the time of the development of the Progress Report with the baseline emissions from its regional haze SIP. The Progress Report appropriately details the 2011 SO2, NOX, PM2.5, and VOC reductions achieved, by sector, thus far in the regional haze planning period.

In its Progress Report, Vermont states that sulfates continue to be the biggest single contributor to regional haze at Lye Brook. Vermont's emissions were not found to be impacting any Class I area. VT DEC focused its analysis on addressing large SO2 emissions from point sources outside of the state. The State did not find any significant changes in NOX and PM2.5 which might impede or limit progress during the first planning period. In addition, VT DEC cited the 2013 Northeast States for Coordinated Air Use Management (NESCAUM) report, discussed below, which indicates that all of the MANE-VU Class I areas are on track to meet the 2018 visibility goals established by the states in their regional haze SIPs.¹¹

¹¹ NESCAUM for MANE-VU, “Tracking Visibility Progress 2004-2011,” revised May 24, 2013. http://www.nescaum.org/documents/manevu-trends-2004-2011-report-final-20130430.pdf/view.

EPA finds that VT DEC has adequately addressed the applicable provisions under 40 CFR 51.308(g). The emissions from Vermont were not found to impact any Class I area. The State also adequately demonstrated that there are no significant changes in emissions of SO2, PM2.5, or NOX from contributing states which have impeded progress in reducing emissions and improving visibility in Vermont's Class I area, Lye Brook.

In its Progress Report, VT DEC states that it believes that the elements and strategies relied on in its original 2009 regional haze SIP are sufficient to enable Vermont to meet all established RPGs. To support this conclusion, VT DEC notes that 2013 SO2 emissions from all EGUs in the entire MANE-VU region are already less than the 2018 projection (315,675 tons vs. 365,024 tons).¹² In addition, Vermont discusses visibility data from Tracking Visibility Progress, 2004-2011, prepared by NESCAUM, which updated the progress at MANE-VU Class I areas during the five-year period ending in 2014. The data included information for the Vermont Class I area, between 2000 and 2014, in the context of short- and long-term visibility goals. The report indicates that visibility impairment on the best and worst days from 2000 to 2014 has improved at Lye Brook. Vermont notes the NESCAUM report indicates that all the MANE-VU Class I states continue to be on track to meet their 2018 RPGs for improved visibility and that further progress may occur through recently adopted or proposed regulatory programs. Based upon the NESCAUM report and visibility data, Vermont states in its Progress Report that visibility improvement at Lye Brook has occurred for the most impaired days and no degradation of visibility has occurred for the least impaired days. Therefore, Vermont finds that Lye Brook is on track to meet the RPGs for 2018 based on observed visibility improvement.

¹² Mid-Atlantic Air Management Association (MARAMA) Regional Emission Trends Analysis for MANE-VU States: Technical Support Document, Revision 3, March 22, 2013. See the docket for this rulemaking.

EPA finds that Vermont has adequately addressed the applicable provisions under 40 CFR 51.308(g). EPA views this requirement as an assessment that should evaluate emissions and visibility trends and other readily available information. In its Progress Report, Vermont described the improving visibility trends using data from the IMPROVE network and the downward emissions trends in key pollutants in the State and the MANE-VU region. With a focus on SO2 emissions from upwind EGUs, Vermont determined that the State's regional haze SIP is sufficient for the Class I area within the state to meet its RPGs.

Vermont's visibility monitoring strategy relies upon participation in the IMPROVE network. As discussed above, the Mt. Equinox (LYBR1) IMPROVE monitor near Lye Brook was replaced by a second IMPROVE site established on Mt. Snow in Dover, Vermont (LYEB1). On the 20% best and worst days, the two sites were found to have a nearly one-to-one relationship. VT DEC finds that the Mt. Snow IMPROVE monitor is an appropriate replacement for the discontinued Mt. Equinox monitor and that there is no indication of a need for additional monitoring sites or equipment.

EPA finds that Vermont has adequately addressed the applicable provisions under 40 CFR 51.308(g) by reviewing and detailing any changes to the state's visibility monitoring strategy.

B. Determination of Adequacy of Existing Regional Haze Plan

In its Progress Report SIP, Vermont submitted a negative declaration to EPA regarding the need for additional actions or emission reductions in Vermont beyond those already in place and those to be implemented by 2018 according to Vermont's regional haze SIP.

In its Progress Report SIP, Vermont determined that the existing regional haze SIP requires no further substantive revision at this time to achieve the RPGs for the Class I area within the state. The basis for the State's negative declaration is the finding that visibility has improved at all Class I areas in the MANE-VU region. In addition, even though Vermont sources were not found to impact visibility in any Class I area, the SO2 emissions from the state's sources have decreased. While NOX emissions are still greater than the level previously projected for 2018, additional substantial NOX emission reductions are expected from the mobile sector over the next several years. Finally, Vermont expects the downward trend in SO2 emissions from EGUs in the other MANE-VU states to continue through 2018.

EPA concludes that Vermont has adequately addressed the provisions under 40 CFR 51.308(h) because the visibility and emission trends indicate that the Lye Brook Wilderness Area has met its RPGs for 2018.

III. Final Action

EPA is approving Vermont's regional haze Five-Year Progress Report SIP revision, submitted by VT DEC on February 29, 2016, as meeting the applicable regional haze requirements set forth in 40 CFR 51.308(g) and (h).

The EPA is publishing this action without prior proposal because the Agency views this as a noncontroversial amendment and anticipates no adverse comments. However, in the proposed rules section of this Federal Register publication, EPA is publishing a separate document that will serve as the proposal to approve the SIP revision should relevant adverse comments be filed. This rule will be effective October 16, 2017 without further notice unless the Agency receives relevant adverse comments by September 15, 2017.

If the EPA receives such comments, then EPA will publish a notice withdrawing the final rule and informing the public that the rule will not take effect. All public comments received will then be addressed in a subsequent final rule based on the proposed rule. The EPA will not institute a second comment period on the proposed rule. All parties interested in commenting on the proposed rule should do so at this time. If no such comments are received, the public is advised that this rule will be effective on October 16, 2017 and no further action will be taken on the proposed rule. Please note that if EPA receives adverse comment on an amendment, paragraph, or section of this rule and if that provision may be severed from the remainder of the rule, EPA may adopt as final those provisions of the rule that are not the subject of an adverse comment.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by October 16, 2017. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2)).

List of Subjects in 40 CFR Part 52

Environmental protection, Air pollution control, Carbon monoxide, Incorporation by reference, Intergovernmental relations, Lead, Nitrogen dioxide, Ozone, Particulate matter, Regional haze, Reporting and recordkeeping requirements, Sulfur oxides, Volatile organic compounds.

Dated: July 24, 2017.
Deborah A. Szaro,
Acting Regional Administrator, EPA New England.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart UU—Vermont

2. In § 52.2370, the table in paragraph (e) is amended by adding the entry “Vermont Regional Haze Five-Year Progress Report” at the end of the table to read as follows:

§ 52.2370 Identification of plan.

* * * * *

(e) * * *

Vermont Non-Regulatory
Name of non-regulatory SIP provision | Applicable geographic or nonattainment area | State submittal date/ effective date | EPA approval date | Explanation
* * * * * * *
Vermont Regional Haze Five-Year Progress Report | Statewide | Submitted 2/29/2016 | 8/16/2017, [insert Federal Register citation] |

[FR Doc. 2017-17247 Filed 8-15-17; 8:45 am]

BILLING CODE 6560-50-P